DEPARTMENT OF TRANSPORTATION

Federal Railroad Administration

Federal-State Partnership for Intercity Passenger Rail Program; Northeast Corridor Project Inventory

AGENCY: Federal Railroad Administration (FRA), Department of Transportation (DOT).

ACTION: Notice of availability of the Northeast Corridor Project Inventory.

SUMMARY: FRA is publishing the Northeast Corridor (NEC) project inventory (NEC Project Inventory), which is a requirement of the Federal-State Partnership for Intercity Passenger Rail Program (FSP). FRA is required to publish the NEC Project Inventory not later than one year after the enactment of the Infrastructure Investment and Jobs Act, also known and the Bipartisan Infrastructure Law (BIL).

DATES: Applicable November 15, 2022.

ADDRESSES: The NEC Project Inventory can be found at: https://railroads.dot.gov/elibrary/nec-inventory.

FOR FURTHER INFORMATION CONTACT: For additional information, please contact Amishi Castelli, Northeast Corridor Program Manager, Office of Amtrak and Northeast Corridor Program Delivery, at email: Amishi.Castelli@dot.gov or telephone: 202-845-4394, or Bryan Rodda, Lead Community Planner, Office of Amtrak and Northeast Corridor Program Delivery, at email: Bryan.Rodda@dot.gov or telephone: 202-493-0443.

SUPPLEMENTARY INFORMATION:

The FSP was reauthorized and revised in the BIL, Title II, U.S.C. 22106 and 22307, Public Law 117-58 (2021); codified at 49 U.S.C. 24911. Under the FSP, the Secretary of Transportation (Secretary) is directed to develop and implement a program for issuing grants, on a competitive basis, to fund projects that reduce the state of good repair backlog, improve performance, or expand or establish new intercity passenger rail service, including privately operated intercity passenger rail service if an eligible applicant is involved. The FSP also requires the Secretary to, among other things, develop and publish an NEC Project Inventory to: (1) create a predictable project pipeline that will assist Amtrak, States, and the public with long-term capital planning, and (2) use the NEC Project Inventory when selecting projects located on the NEC for FSP funds. 49 U.S.C. 24911.

In compliance with the above, FRA is publishing the NEC Project Inventory, which will be available on November 15, 2022, at: https://railroads.dot.gov/elibrary/nec-inventory. In the future, FRA will publish FSP Notices of Funding Opportunity (NOFO) soliciting applications for NEC Projects listed on the NEC Project Inventory. FRA will then evaluate applications and select projects consistent with the NOFO. FRA will publish an NEC Project Inventory at least every two years following this initial publication.

Issued in Washington, DC.
Paul Nissenbaum,
Associate Administrator and Chief Development Officer, Office of Railroad Development.

[FR Doc. 2022-24860 Filed 11-14-22; 8:45 am]

BILLING CODE 4910-06-P